FEDERAL COMMUNICATIONS COMMISSION

47 CFR Part 73

[DA 16-1297; MB Docket No. 16-270; RM-11772]

Radio Broadcasting Services; Pima, Arizona

AGENCY: Federal Communications Commission.

ACTION: Proposed rule; dismissal.

SUMMARY: The Audio Division dismisses the petition for rulemaking filed by 1TV.Com, Inc., (Petitioner), licensee of KIKO(FM), Claypool, Arizona, proposing to amend the FM Table of Allotments, by substituting noncommercial educational Channel *278A for Channel *296A at Pima, Arizona, to accommodate a hybrid application, requesting modification of the license for Station KIKO(FM) to specify operation on Channel 243C2 rather than Channel 247C2 at Claypool, Arizona. No comments or counterproposals were received by any parties. Petitioner did not file comments expressing a continuing interest in the proposed Pima allotment. It is the Commission's policy to refrain from making an allotment to a community absent an expression of interest. We will not allot Channel *278A at Pima, Arizona.

FOR FURTHER INFORMATION CONTACT: Adrienne Y. Denysyk, Media Bureau, (202) 418-2700.

SUPPLEMENTARY INFORMATION: This is a synopsis of the Commission's Report and Order, MB Docket No. 16-270, adopted November 17, 2016, and released November 18, 2016. The full text of this Commission decision is available for inspection and copying during normal business hours in the FCC's Reference Information Center at Portals II, CY-A257, 445 12th Street SW., Washington, DC 20554. The full text is also available online at http://apps.fcc.gov/ecfs/. This document does not contain information collection requirements subject to the Paperwork Reduction Act of 1995, Public Law 104-13. This document is not subject to the Congressional Review Act. (The Commission is not required to submit a copy of this Report and Order to Government Accountability Office, pursuant to the Congressional Review Act, see 5 U.S.C. 801(a)(1)(A) since the proposed petition for rule making is dismissed).

Federal Communications Commission.
Nazifa Sawez,
Assistant Chief, Audio Division, Media Bureau.

[FR Doc. 2016-29903 Filed 12-12-16; 8:45 am]

BILLING CODE 6712-01-P